COMMISSION ON CIVIL RIGHTS

Notice of Public Meeting of the Illinois Advisory Committee To Hear Testimony Regarding Civil Rights and Environmental Justice in the State

AGENCY: U.S. Commission on Civil Rights.

ACTION: Announcement of meeting.

SUMMARY: Notice is hereby given, pursuant to the provisions of the rules and regulations of the U.S. Commission on Civil Rights (Commission) and the Federal Advisory Committee Act that the Illinois Advisory Committee (Committee) will hold a meeting on Wednesday March 09, 2016, from 10:30 a.m. until 7:15 p.m. CST at the National Museum of Mexican Art, 1852 W. 19th Street in Chicago, IL 60608. The purpose of this meeting is to hear testimony regarding civil rights and environmental justice in the State. This study is in support of the Commission's nationally focused 2016 statutory enforcement study on the same topic.

This meeting is free and open to the public. Any interested member of the public may attend. An open comment period will be provided beginning at 6:20 p.m. to allow members of the public to make a statement. Persons with disabilities requiring reasonable accommodations should contact the Regional Programs Unit at 312-353-8311 a minimum of ten days prior to the meeting to make arrangements.

Members of the public are also entitled to submit written comments; the comments must be received in the regional office within 30 days following the meeting. Written comments may be mailed to the Regional Programs Unit, U.S. Commission on Civil Rights, 55 W. Monroe St., Suite 410, Chicago, IL 60615. They may also be faxed to the Commission at (312) 353-8324, or emailed to Carolyn Allen at callen@usccr.gov. Persons who desire additional information may contact the Regional Programs Unit at (312) 353-8311.

Records and documents discussed during the meeting will be available for public viewing prior to and after the meeting at https://database.faca.gov/committee/meetings.aspx?cid=246. Click on the “Meeting Details” and “Documents” links to download. Records generated from this meeting may also be inspected and reproduced at the Regional Programs Unit, as they become available, both before and after the meeting. Persons interested in the work of this Committee are directed to the Commission's Web site, http://www.usccr.gov, or may contact the Regional Programs Unit at the above email or street address.

Agenda

Opening Remarks—10:30 a.m.-10:45 a.m.

• Panel 1: Academics & Advocates—10:45 a.m.-11:45 a.m.

• Panel 2: Community I—12:00 p.m.-1:15 p.m.

Break 1:15pm-2:15 p.m.

• Panel 3: Community II—2:15 p.m.-3:15 p.m.

• Panel 4: Industry—3:30 p.m.-4:45 p.m.

• Panel 5: Government—5:00 p.m.-6:15 p.m.

Open Forum: 6:20 p.m.-7:00 p.m. (40 mins)

Closing Remarks—7:00 p.m.-7:15 p.m.

DATES: The meeting will be held on Wednesday March 09, 2016, from 10:30 a.m.-7:15 p.m. CST

Meeting Location: National Museum of Mexican Art, 1852 W. 19th Street in Chicago, IL 60608.

FOR FURTHER INFORMATION CONTACT: Melissa Wojnaroski at mwojnaroski@usccr.gov or 312-353-8311.

Dated February 12, 2016.
David Mussatt,
Chief, Regional Programs Unit.

[FR Doc. 2016-03437 Filed 2-18-16; 8:45 am]

BILLING CODE 6335-01-P